EXPORT-IMPORT BANK OF THE UNITED STATES

Economic Impact Policy

This notice is to inform the public that the Export-Import Bank of the United States has received an application to guarantee up to $250 million of equipment and other goods and services on behalf of U.S. exporters to a buyer in China. The U.S. exports will enable the Chinese company to increase output of various petrochemicals by 1.815 million metric tons per year. The outputs are HDPE (200,000 tons per year), LDPE (250,000 tons per year), Polypropylene (240,000 tons per year), Ethylene Glycol (356,000 tons per year), Propylene Oxide (88,000 tons per year), Styrene (550,000 tons per year), Butadiene (131,000 tons per year). It is envisioned this new production will be consumed in China. Interested parties may submit comments on this transaction by email to economic.impact@exim.gov or by mail to 811 Vermont Avenue, NW., Room 1238, Washington, DC 20571, within 14 days of the date this notice appears in the Federal Register.

Helene S. Walsh,
Director, Policy Oversight and Review.

[FR Doc. 02-17425 Filed 7-10-02; 8:45 am]

BILLING CODE 6690-01-M